FEDERAL COMMUNICATIONS COMMISSION

[OMB 3060-1033; FRS 17442]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before April 26, 2021. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION:

OMB Control Number: 3060-1033.

Title: Multi-Channel Video Program Distributor EEO Program Annual Report, FCC Form 396-C.

Form Number: FCC-396-C.

Type of Review: Extension of a currently approved collection.

Respondents: Business or other for-profit entities, Not-for-profit institutions.

Number of Respondents and Responses: 811 respondents, 952 responses.

Estimated Time per Response: 10 minutes-2.5 hours.

Frequency of Response: Recordkeeping requirement; Once every five year reporting requirement; Annual reporting requirement.

Obligation to Respond: Required to obtain benefits. The statutory authority for this collection of information is contained in Section 154(i) and 303 and 634 of the Communications Act of 1934, as amended.

Total Annual Burden: 1,077 hours.

Total Annual Cost: No Cost.

Privacy Act Impact Assessment: No impact(s).

Nature and Extent of Confidentiality: There is no need for confidentiality with this collection of information.

Needs and Uses: The FCC Form 396- C is a collection device used to assess compliance with the Equal Employment Opportunity (EEO) program requirements of Multi-Channel Video Programming Distributors (“MPVDs”). It is publicly filed to allow interested parties to monitor a MPVD's compliance with the Commission's EEO requirements. All MVPDs must file annually an EEO report in their public file detailing various facts concerning their outreach efforts during the preceding year and the results of those efforts. MVPDs will be required to file their EEO public file report for the preceding year as part of the in-depth MVPD investigation conducted once every five years via the Form 396-C Supplemental Investigation Sheet.

Federal Communications Commission.
Marlene Dortch,
Secretary, Office of the Secretary.

[FR Doc. 2021-03539 Filed 2-22-21; 8:45 am]

BILLING CODE 6712-01-P